Title 3—

The President

Proclamation 8058 of September 29, 2006

National Domestic Violence Awareness Month, 2006

By the President of the United States of America

A Proclamation

Domestic violence has no place in our society, and we have a moral obligation to help prevent it. The terrible tragedies that result from it destroy lives and insult the dignity of women, men, and children. National Domestic Violence Awareness Month is an opportunity to underscore our commitment to bringing an end to violence in the home.

A home should be a place of stability, comfort, and love. Domestic violence shatters this important foundation. My Administration is strongly committed to addressing domestic violence and helping those who have been victimized. In January, I was proud to sign legislation reauthorizing the Violence Against Women Act. Since I announced the Family Justice Center Initiative in 2003, we have opened 11 Family Justice Centers across the country. These centers offer services to victims and their families, including legal advice, counseling, and support. In addition, we are continuing to work with faith-based and community organizations to provide training, expertise, and funding to help deliver hope and healing to those who need it most.

During National Domestic Violence Awareness Month and throughout the year, we are grateful for the advocates, counselors, and others who provide care to those affected by these acts of cruelty and for the law enforcement personnel and others who work to bring offenders to justice. We extend our compassion to the victims of domestic violence and urge them to seek assistance through local Family Justice Centers, faith-based and community organizations, and the National Domestic Violence Hotline at 1-800-799-SAFE. By working together, we can build an America where every home honors the value and dignity of its loved ones.

NOW, THEREFORE, I, GEORGE W. BUSH, President of the United States of America, by virtue of the authority vested in me by the Constitution and laws of the United States, do hereby proclaim October 2006 as National Domestic Violence Awareness Month. I urge all Americans to reach out to victims and help end domestic violence.

IN WITNESS WHEREOF, I have hereunto set my hand this twenty-ninth day of September, in the year of our Lord two thousand six, and of the Independence of the United States of America the two hundred and thirty-first.

[FR Doc. 06-8522

Filed 10-3-06; 8:45 am]

Billing code 3195-01-P